NUCLEAR REGULATORY COMMISSION

[Docket No. 50-354]

PSEG Nuclear, LLC; Notice of Withdrawal of Application for Amendment to Facility Operating License

The U.S. Nuclear Regulatory Commission (the Commission) has granted the request of PSEG Nuclear, LLC (the licensee) to withdraw Public Service Electric & Gas Company's (PSE&G) December 28, 1998, application for proposed amendment to Facility Operating License No. NPF-57 for the Hope Creek Generating Station (HCGS), located in Salem County, New Jersey. On August 21, 2000, the license for HCGS, to the extent held by PSE&G, was transferred to PSEG Nuclear Limited Liability Company (PSEG Nuclear). By letter dated September 6, 2000, PSEG Nuclear stated that they have assumed responsibility for the active items on the Hope Creek docket previously submitted by PSE&G as of the date of the transfer.

The proposed amendment would have revised the technical specifications to increase the allowable leak rate of the main steam isolation valves (MSIV) and delete the MSIV Sealing System.

The Commission had previously issued a Notice of Consideration of Issuance of Amendment published in the Federal Register on February 10, 1999 (64 FR 6707). However, by letter dated August 29, 2000, the licensee withdrew the proposed change.

For further details with respect to this action, see the application for amendment dated December 28, 1998, and the licensee's letter dated August 29, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 7th day of September 2000.
For the Nuclear Regulatory Commission.
John Harrison,
Project Manager, Section 2, Project Directorate I, Division of Licensing Project Management, Office of Nuclear Reactor Regulation.

[FR Doc. 00-23528 Filed 9-12-00; 8:45 am]

BILLING CODE 7590-01-P